DEPARTMENT OF ENERGY

International Energy Agency Meeting

AGENCY: Department of Energy.

ACTION: Notice of meeting.

SUMMARY: A meeting involving members of the Industry Advisory Board (IAB) to the International Energy Agency (IEA) in connection with the IEA's Emergency Disruption Simulation Exercise (ERE7) will be held on November 17 and 18, 2014, at the OECD Conference Centre, 2 rue André-Pascal, 75016 Paris, France. The purpose of this notice is to permit participation in ERE7 by U.S. company members of the IAB.

DATES: November 17-18, 2014.

ADDRESSES: 2 rue André-Pascal, Paris, France.

FOR FURTHER INFORMATION CONTACT: Diana D. Clark, Assistant General Counsel for International and National Security Programs, Department of Energy, 1000 Independence Avenue SW., Washington, DC 20585, 202-586-3417.

SUPPLEMENTARY INFORMATION: In accordance with section 252(c)(1)(A)(i) of the Energy Policy and Conservation Act (42 U.S.C. 6272(c)(1)(A)(i)) (EPCA), the following notice of meeting is provided:

The ERE7 sessions will be held from 9:30-5:30 p.m. on November 17, and from 9:30 a.m. to 3:30 p.m. on November 18. The purpose of ERE7 is to train IEA Government delegates in the use of IEA emergency response procedures by reacting to a hypothetical oil supply disruption scenario.

The agenda for ERE7 is under the control of the IEA. ERE7 will involve break-out groups, the constitution of which is under the control of the IEA. The IEA anticipates that individual break-out groups will not include multiple IAB or Reporting Company representatives that would qualify them as separate “meetings” within the meaning of the Voluntary Agreement and Plan of Action to Implement the International Energy Program. It is expected that the IEA will adopt the following agenda:

Day 1

I. Training Session

1. Welcome to ERE7.

2. Overview of IEA emergency response policies.

3. Oil market basics.

4. IEA emergency response process.

5. Media perspective.

6. Introduction of previous ERE scenario.

7. Analysis of previous ERE scenario.

II. Supply Disruption Scenario 1

1. Scenario 1 introduction and break-out session.

2. Scenario 1 plenary session.

Day 2

III. Supply Disruption Scenario 2

1. Scenario 2 introduction and break-out session.

2. Scenario 2 plenary session.

IV. Supply Disruption Scenario 3

1. Scenario 3 introduction and break-out session.

2. Scenario 2 plenary session.

3. Round-up and concluding remarks.

As provided in section 252(c)(1)(A)(ii) of the Energy Policy and Conservation Act (42 U.S.C. 6272(c)(1)(A)(ii)), the meetings of the IAB are open to representatives of members of the IAB and their counsel; representatives of members of the IEA's Standing Group on Emergency Questions (SEQ) and the IEA's Standing Group on the Oil Markets (SOM); representatives of the Departments of Energy, Justice, and State, the Federal Trade Commission, the Governmental Accountability Office, Committees of Congress, the IEA, and the European Commission; and invitees of the IAB, the SEQ, the SOM, or the IEA.

Issued in Washington, DC, November 3, 2014.
Diana D. Clark,
Assistant General Counsel for International and National Security Programs.

[FR Doc. 2014-26495 Filed 11-6-14; 8:45 am]

BILLING CODE 6450-01-P